DEPARTMENT OF HEALTH AND HUMAN SERVICES

Centers for Disease Control and Prevention

Notice of Award of a Single-Source Cooperative Agreement To Fund United Way of Middle Tennessee Greater Nashville dba United Way of Greater Nashville

AGENCY: Centers for Disease Control and Prevention (CDC), Department of Health and Human Services (HHS).

ACTION: Notice.

SUMMARY: The Centers for Disease Control and Prevention (CDC), located within the Department of Health and Human Services (HHS), announces the award of approximately $4,000,000, for one-year funding period to United Way of Middle Tennessee dba United Way of Greater Nashville. The award will fund a community-based organization (CBO) to expand the implementation of comprehensive high-impact community-based HIV prevention programs in Tennessee.

DATES: The period for this award will be June 1, 2023 through May 31, 2024.

FOR FURTHER INFORMATION CONTACT: Erica K. Dunbar, National Center for HIV, Viral Hepatitis, STD, and TB Prevention (NCHHSTP), Centers for Disease Control and Prevention, 1600 Clifton Rd. NE, MS US8-3, Atlanta, GA 30329-4027, Telephone: 404-639-6048, Email: CBOFOA@cdc.gov.

SUPPLEMENTARY INFORMATION: This single-source award will: (1) complement existing programs, such as the Ryan White program and other HHS programs, in the local jurisdictions; and (2) address gaps in HIV prevention services throughout the state of Tennessee via direct funding of the United Way of Middle TN dba United Way of Greater Nashville (UWGN) and indirect funding of CBOs throughout Tennessee. Through this NOFO, a 1-year cooperative agreement will be awarded to ensure a continuity of services, address gaps in services, and enhance CBOs' capacity to implement HIV prevention strategies and activities.

United Way of Middle TN dba United Way of Greater Nashville (UWGN)is in a unique position to conduct this work, as it has successfully served as the fiscal agent and program manager for the CDC HIV prevention and Ending the HIV Epidemic (EHE) programs funds awarded to Tennessee. UWGN has a proven track record of managing the grants, as well as sub-grantee relationships. Further, CBOs are uniquely positioned to complement and extend the reach of HIV prevention efforts implemented by state and local health departments. They support the optimization of services across public, private, and other community-based organizations to achieve objectives of increased identification of HIV diagnoses, referral for pre-exposure prophylaxis (PrEP) and non-occupational post-exposure prophylaxis (nPEP) services, earlier entry to HIV care, and increased consistency of care.

Summary of the Awardee

Recipient: United Way of Middle Tennessee dba United Way of Greater Nashville (UWGN).

Purpose of the Award: The purpose of this award is to enhance the capacity of CBOs, through new and continued funding relationships, to implement integrated HIV programs, that complement programs such as the Ryan White program and other HHS programs, within local health department jurisdictions throughout the State of Tennessee.

Amount of Award: $4,000,000 in Federal Fiscal Year (FFY) 2023 funds, with a total estimated $4,000,000 for the one-year period of performance, subject to availability of funds.

Authority: This program is authorized under Sections 301 and 318(a) of the Public Health Service Act; 42 U.S.C. 241 and 247c, as amended.

Period of Performance: June 1, 2023 through May 31, 2024.

Dated: April 21, 2023.
Terrance Perry,
Chief Grants Management Officer, Centers for Disease Control and Prevention.

[FR Doc. 2023-08791 Filed 4-25-23; 8:45 am]

BILLING CODE 4163-18-P